SMALL BUSINESS ADMINISTRATION

Revocation of License of Small Business Investment Company

Pursuant to the authority granted to the United States Small Business Administration by the Final Order of the United States District Court of the Northern District of Texas, Fort Worth dated April 1, 2009, the United States Small Business Administration hereby revokes the license of Trinity SBIC, L.P., a Delaware limited partnership, to function as a small business investment company under the Small Business Investment Company License No. 0373-0218 issued to Trinity SBIC, L.P. on April 4, 2000 and said license is hereby declared null and void as of April 1, 2009.

United States Small Business Administration
Dated: March 4, 2011.
Sean J. Greene,
Associate Administrator for Investment, United States Small Business Administration.

[FR Doc. 2011-6474 Filed 3-18-11; 8:45 am]

BILLING CODE 8025-01-P